DEPARTMENT OF ENERGY

Federal Energy Regulatory Commission

Sunshine Act Meeting; Notice

AGENCY HOLDING MEETING: Federal Energy Regulatory Commission.

FEDERAL REGISTER CITATION OF PREVIOUS ANNOUNCEMENT: July 24, 2000, 65 FR 45596.

PREVIOUSLY ANNOUNCED TIME AND DATE OF MEETING: July 26, 2000, 10 a.m.

CHANGE IN THE MEETING: The following Docket Nos. and Companies have been added to Item CAE-2 on the Agenda scheduled for the July 26, 2000 meeting.

Item No. | Docket No. and Company
CAE-2 | EL00-83-001, NSTAR Services Company v. New England Power. Pool ER00-2811-000, 001, ISO New England, Inc. ER00-2937-000, ISO New England, Inc. EL00-62-000, ISO New England, Inc.

David P. Boergers,
Secretary.

[FR Doc. 00-19425 Filed 7-27-00; 8:45 am]

BILLING CODE 6717-01-M